DEPARTMENT OF ENERGY

Federal Energy Regulatory Commission

[Docket No. IC25-15-000]

Commission Information Collection Activity (Ferc-592); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collections, FERC-592 (Standards of Conduct for Transmission Providers and Marketing Affiliates of Interstate Pipelines).¹ There are no changes to the reporting requirements for this information collection.

¹ The Standards for Business Practices and Communications Protocols for Public Utilities, FERC-717, is reflected in a separate and currently approved information collection (OMB Control No. 1902-0173).

DATES: Comments on the collections of information are due October 27, 2025.

ADDRESSES: Please submit comments via email to DataClearance@FERC.gov. You must specify the Docket No. (IC25-15-000) and the FERC Information Collection number (FERC-592) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: Standards of Conduct for Transmission Provider and Marketing Affiliates of Interstate Pipelines.

OMB Control No.: 1902-0157.

Type of Request: Three-year extension of the FERC-592 information collection requirements with no changes to the current reporting requirements.

Abstract: The Commission uses the information maintained and posted by the respondents to monitor the pipeline's transportation, sales, and storage activities for its marketing affiliate to deter undue discrimination by pipeline companies in favor of their marketing affiliates. Non-affiliated shippers and other entities (e.g. state commissions) also use the information to determine whether they have been harmed by affiliate preference and to prepare submissions and formulate positions in rate cases and other proceedings.

18 CFR Part 358 (Standards of Conduct)

Respondents maintain and provide the information required by 18 CFR part 358 on their public websites. This requirement ensures that non-affiliated shippers obtain comparable access to non-public transportation information which allows them to compete with marketing affiliates on a more equal basis.

18 CFR 250.16, and the FERC-592 Log/Format

This form (log/format) provides the electronic formats for maintaining information on discounted transportation transactions and capacity allocation to support monitoring of activities of interstate pipeline marketing affiliates.

Without this information collection:

• the Commission would have difficulty effectively monitoring whether pipelines are giving discriminatory preference to their marketing affiliates; and

• non-affiliated shippers, state commissions, and others have difficulty determining whether they have been harmed by affiliate preference, preparing submissions for rate cases and other proceedings.

Type of Respondents: Natural gas pipelines.

Estimate of Annual Burden: ² The Commission estimates the annual reporting burden and cost for the information collection as shown in the following table:

² “Burden” is defined as the total time, effort, or financial resources expended by persons to generate, maintain, retain, or disclose or provide information to or for a Federal agency. For further explanation of what is included in the information collection burden, reference 5 CFR 1320.3.

FERC-592—Estimated Annual Burdens
Number of respondents | Annual number of responses per respondent | Total number of responses | Average burden & cost per response ³ | Total annual burden hours & total annual cost | Cost per respondent ($)
(1) | (2) | (1) * (2) = (3) | (4) | (3) * (4) = (5) | (5) ÷ (1)
85 | 1 | 85 | 117 hrs.; $12,051 | 9,945 hrs.; $1,024,335 | $12,051

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The cost is based on FERC's 2025 Commission-wide average salary cost (salary plus benefits) of $103.00/hour. The Commission staff believes the FERC FTE (full-time equivalent) average cost for wages plus benefits is representative of the corresponding cost for the industry respondents.

Dated: August 20, 2025.
Debbie-Anne A. Reese,
Secretary.

[FR Doc. 2025-16303 Filed 8-25-25; 8:45 am]

BILLING CODE 6717-01-P